DEPARTMENT OF ENERGY

Federal Energy Regulatory Commission

Combined Notice of Filings #1

Take notice that the Commission received the following exempt wholesale generator filings:

Docket Numbers: EG11-63-000

Applicants: Macho Springs Power I, LLC

Description: Notice of Self-Certification of Exempt Wholesale Generator Status of Macho Springs Power I, LLC.

Filed Date: 03/02/2011

Accession Number: 20110302-5152

Comment Date: 5 p.m. Eastern Time on Wednesday, March 23, 2011

Take notice that the Commission received the following electric rate filings:

Docket Numbers: ER11-2128-003

Applicants: California Independent System Operator Corporation

Description: California Independent System Operator Corporation submits tariff filing per 35: 2011-03-02 CAISO's Convergence Bidding Compliance Filing to be effective 2/1/2011.

Filed Date: 03/02/2011

Accession Number: 20110302-5205

Comment Date: 5 p.m. Eastern Time on Wednesday, March 23, 2011

Docket Numbers: ER11-2288-001

Applicants: PJM Interconnection, L.L.C.

Description: PJM Interconnection, L.L.C. submits tariff filing per 35: Compliance filing per Order in Docket No. ER11-2288 to be effective 2/1/2011.

Filed Date: 03/02/2011

Accession Number: 20110302-5194

Comment Date: 5 p.m. Eastern Time on Wednesday, March 23, 2011

Docket Numbers: ER11-3004-000

Applicants: Pacific Gas and Electric Company

Description: Pacific Gas and Electric Company submits tariff filing per 35.13(a)(2)(iii: Amendment to Wholesale Distribution Tariff: Generator Interconnection Procedures to be effective 3/3/2011.

Filed Date: 03/02/2011

Accession Number: 20110302-5175

Comment Date: 5 p.m. Eastern Time on Wednesday, March 23, 2011

Docket Numbers: ER11-3005-000

Applicants: NV Energy, Inc.

Description: NV Energy, Inc. submits tariff filing per 35: OATT Order 729, 729-A, 729-B Compliance—Attachment C to be effective 4/1/2011.

Filed Date: 03/02/2011

Accession Number: 20110302-5177

Comment Date: 5 p.m. Eastern Time on Wednesday, March 23, 2011

Docket Numbers: ER11-3006-000

Applicants: NV Energy, Inc.

Description: NV Energy, Inc. submits tariff filing per 35.13(a)(2)(iii: Service Agreement No. 10-01257 Amendment 1 SGIA to be effective 2/14/2011.

Filed Date: 03/02/2011

Accession Number: 20110302-5178

Comment Date: 5 p.m. Eastern Time on Wednesday, March 23, 2011

Docket Numbers: ER11-3007-000

Applicants: NV Energy, Inc.

Description: NV Energy, Inc. submits tariff filing per 35.12: Service Agreement No. 11-00018 to be effective 2/14/2011.

Filed Date: 03/02/2011

Accession Number: 20110302-5179

Comment Date: 5 p.m. Eastern Time on Wednesday, March 23, 2011

Docket Numbers: ER11-3008-000

Applicants: LG&E Energy Marketing Inc.

Description: LG&E Energy Marketing Inc. submits tariff filing per 35: Tariff Rev to Remove Certain MBR Restrictions to be effective 5/1/2011.

Filed Date: 03/03/2011

Accession Number: 20110303-5003

Comment Date: 5 p.m. Eastern Time on Thursday, March 24, 2011

Docket Numbers: ER11-3009-000

Applicants: Louisville Gas and Electric Company

Description: Louisville Gas and Electric Company submits tariff filing per 35: Tariff Rev to Remove Certain MBR Restrictions to be effective 5/1/2011.

Filed Date: 03/03/2011

Accession Number: 20110303-5007

Comment Date: 5 p.m. Eastern Time on Thursday, March 24, 2011

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: March 3, 2011.
Nathaniel J. Davis, Sr.,
Deputy Secretary.

[FR Doc. 2011-5492 Filed 3-9-11; 8:45 am]

BILLING CODE 6717-01-P